DEPARTMENT OF TRANSPORTATION

Surface Transportation Board

[STB Docket No. AB-290 (Sub-No. 299X); STB Docket No. AB-1024X]

Norfolk Southern Railway Company—Discontinuance of Service Exemption—in Chesapeake, VA; Norfolk and Portsmouth Belt Line Railroad Company—Discontinuance of Trackage Rights Exemption—in Chesapeake, VA

Norfolk Southern Railway Company (NSR) and Norfolk and Portsmouth Belt Line Railroad Company (NPBL) ¹ (collectively, applicants) have jointly filed a verified notice of exemption under 49 CFR part 1152 subpart F—Exempt Abandonments and Discontinuances of Service for NSR to discontinue service over, and for NPBL to discontinue trackage rights over, 0.90 miles of railroad between milepost NS 1.40 and milepost NS 2.30, in Chesapeake, VA. The line traverses United States Postal Service Zip Code 23324.

¹ NPBL is jointly owned by NSR and CSX Transportation, Inc.

NSR and NPBL have certified that: (1) No local traffic has moved over the line for at least 2 years; (2) any overhead traffic can be rerouted over other lines; (3) no formal complaint filed by a user of rail service on the line (or by a state or local government entity acting on behalf of such user) regarding cessation of service over the line either is pending with the Surface Transportation Board (Board) or with any U.S. District Court or has been decided in favor of complainant within the 2-year period; and (4) the requirements of 49 CFR 1105.12 (newspaper publication) and 49 CFR 1152.50(d)(1) (notice to governmental agencies) have been met.

As a condition to these exemptions, any employee adversely affected by the service discontinuance/discontinuance of trackage rights shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, these exemptions will be effective on June 14, 2008, unless stayed pending reconsideration. Petitions to stay that do not involve environmental issues and formal expressions of intent to file an OFA for continued rail service under 49 CFR 1152.27(c)(2),² must be filed by May 27, 2008.³ Petitions to reopen must be filed by June 4, 2008, with: Surface Transportation Board, 395 E Street, SW., Washington, DC 20423-0001.

² Each OFA must be accompanied by the filing fee, which currently is set at $1,300. See 49 CFR 1002.2(f)(25).

³ In discontinuance proceedings, trail use/rail banking and public use conditions are not appropriate. Likewise, no environmental or historical documentation is required here under 49 CFR 1105.6(c) and 1105.8(b), respectively.

A copy of any petition filed with the Board should be sent to applicants' representatives: James R. Paschall, Three Commercial Place, Norfolk, VA 23510, and James L. Chapman, IV, 1200 Bank of America Center, One Commercial Place, Norfolk, VA 23510.

If the verified notice contains false or misleading information, the exemptions are void ab initio.

Board decisions and notices are available on our Web site at http://www.stb.dot.gov.

Decided: May 6, 2008.
By the Board, David M. Konschnik, Director, Office of Proceedings.
Anne K. Quinlan,
Acting Secretary.

[FR Doc. E8-10703 Filed 5-13-08; 8:45 am]

BILLING CODE 4915-01-P